NATIONAL SCIENCE FOUNDATION

Advisory Panel for Genetics; Notice of Meeting

In accordance with the Federal Advisory Committee Act (Pub. L. 92-463, as amended), the National Science Foundation announces the following meeting:

Name: Advisory Panel for Genetics (1149) Panel B.

Date/Time: April 24-25, 2000, 8:30 a.m.-5:00 p.m.

Place: National Science Foundation, 4201 Wilson Boulevard, Arlington, VA 22230.

Type of Meeting: Closed.

Contact Person: DeLill Nasser, Program Director, Molecular and Cellular Biosciences Division, National Science Foundation, Room 655, 4201 Wilson Boulevard, Arlington, VA 22230. (703) 306-1439.

Purpose of Meeting: To provide advice and recommendations concerning proposals submitted to the NSF for financial support.

Agenda: To review and evaluate Eukaryotic Genetics Proposals as part of the selection process for awards.

Reason for Closing: The proposals being reviewed include information of a proprietary or confidential nature, including technical information, financial data such as salaries, and personal information concerning individuals associated with the proposals. These matters are exempt under 5 U.S.C. 552b(c) (4) and (6) of the Government in the Sunshine Act.

Dated: February 23, 2000.
Karen J. York,
Committee Management Officer.

[FR Doc. 00-4709 Filed 2-28-00; 8:45 am]

BILLING CODE 7555-01-M